ENVIRONMENTAL PROTECTION AGENCY

[FRL-7054-1]

Agency Information Collection Activities: Submission for OMB Review; Comment Request; National Emission Standards for Hazardous Air Pollutants for Beryllium Rocket Motor Firing

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standards for Hazardous Air Pollutants for Beryllium Rocket Motor Firing (40 CFR part 61, subpart D), EPA ICR Number 1125.03, OMB Control Number 2060-0394, expiring October 31, 2001. The ICR describes the nature of the information collection and its expected burden and cost; where appropriate, it includes the actual data collection instrument.

DATES: Comments must be submitted on or before October 11, 2001.

ADDRESSES: Send comments, referencing EPA ICR No. 1125.03 and OMB Control No. 2060-0394, to the following addresses: Susan Auby, U.S. Environmental Protection Agency, Collection Strategies Division, (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR, contact Susan Auby at EPA by phone at (202) 260-4901, by E-Mail at Auby.Susan@epa.gov, or download off the Internet at http://www.epa.gov/icr and refer to EPA ICR No. 1125.03. For technical questions about the ICR, contact Elson Lim at EPA by phone at (202) 564-7006, by E-Mail at Lim.Elson@epa.gov.

SUPPLEMENTARY INFORMATION: Title: National Emission Standards for Hazardous Air Pollutants for Beryllium Rocket Motor Firing (40 CFR part 61 subpart D), OMB Control Number 2060-0394; EPA ICR No. 1125.03 expiration date October 31, 2001. This is a request for extension of a currently approved collection.

Abstract: Beryllium rocket motor firing operations result in emissions of beryllium. In the Administrator's judgment, emissions from these sources are in sufficient quantity to cause or contribute to air pollution that may endanger public health and welfare. The National Emission Standards for Hazardous Air Pollutants (NESHAP) 40 CFR part 61 subpart D establishes limits for beryllium.

In order to ensure compliance with the standards, adequate recordkeeping and reporting is necessary. This information enables the Agency to: (1) Identify the sources subject to the standard; (2) ensure initial compliance with emission limits; and (3) verify continuous compliance with the standard. Specifically, the rule requires subject test sites to test ambient air for beryllium during and after firing of a rocket motor. Samples are analyzed within 30 days and results are reported to the EPA Region by registered letter by the business day following the determination. In addition, stack sampling requires sampling of beryllium combustion products, analysis and reporting within 30 days. The results are reported to EPA by the day following the determination and calculation.

An Agency may not conduct or sponsor, and a person is not required to respond to, a collection of information unless it displays a currently valid OMB control number. The OMB control number for EPA's regulations are listed in 40 CFR part 9 and 48 CFR Chapter 15. The Federal Register document required under 5 CFR 1320.8(d), soliciting comments on this collection of information was published on May 23, 2001, (66 FR 28462). No comments were received.

Burden Statement

The annual public reporting and record keeping burden for this collection of information is estimated to average 8 hours per response. Burden means the total time, effort, or financial resources expended by persons to generate, maintain, retain, or disclose or provide information to or for a Federal agency. This includes the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owner/Operators of Beryllium Rocket Motor Firing Plants.

Estimated Number of Respondents: 1.

Frequency of Response: Once per test firing in 3 years (1/3).

Estimated Total Annual Hour Burden: 8 hours.

Estimated Total Annualized Cost Burden: $453.

Send comments on the Agency's need for this information, the accuracy of the provided burden estimates, and any suggested methods for minimizing respondent burden, including through the use of automated collection techniques to the addresses listed above. Please refer to EPA ICR No. 1125.03 and OMB Control No. 2060-0394 in any correspondence.

Dated: August 29, 2001.
Oscar Morales,
Director, Collection Strategies Division.

[FR Doc. 01-22749 Filed 9-10-01; 8:45 am]

BILLING CODE 6560-50-P